DEPARTMENT OF TRANSPORTATION

Coast Guard

33 CFR Part 117

[CGD07-01-127]

Drawbridge Operation Regulations; SR 84 Bridge, South Fork of the New River, Mile 4.4, Ft. Lauderdale, Broward County, FL

AGENCY: Coast Guard, DOT.

ACTION: Notice of temporary deviation from regulations.

SUMMARY: The Commander, Seventh Coast Guard District, has approved a temporary deviation from the regulations governing the operation of the SR 84 Bridge across the South Fork of the New River, mile 4.4, Ft. Lauderdale, Broward County, Florida. This deviation allows the drawbridge owner or operator to not open the Bridge from October 29, 2001 to November 3, 2001. This temporary deviation is required to allow the bridge owner to safely complete repairs of the Bridge.

DATES: This deviation is effective from October 29, 2001 to November 3, 2001.

FOR FURTHER INFORMATION CONTACT: Mr. Barry Dragon, Chief, Operations Section, Seventh Coast Guard District, Bridge Section at (305) 415-6743.

SUPPLEMENTARY INFORMATION: The SR 84 Bridge across the South Fork of the New River at Ft. Lauderdale, Broward County, Florida is a single leaf bridge with a vertical clearance of 21.0 feet above mean high water (MHW) measured at the fenders in the closed position with a horizontal clearance of 40 feet. On October 2, 2001, the Florida Department of Transportation, the drawbridge owner, requested a deviation from the current operating regulation in 33 CFR 117.315(b) which requires the draw of the SR 84 Bridge, mile 4.4 at Fort Lauderdale, to open on signal if at least 24 hours notice is given. Public vessels of the Unites States, regularly scheduled cruise vessels, tugs with tows, and vessels in distress shall be passed through the draw as soon as possible. This temporary deviation was requested to allow necessary repairs to the drawbridge in a critical time sensitive manner.

The District Commander has granted a temporary deviation from the operating requirements listed in 33 CFR 117.315(b) to complete repairs to the drawbridge. Under this deviation, the SR 84 Bridge need not open from October 29, 2001 through November 3, 2001, except in the event of an emergency with 24 hours advance notification.

Dated: October 25, 2001.
Greg E. Shapley,
Chief, Bridge Administration, Seventh Coast Guard District.

[FR Doc. 01-27386 Filed 10-30-01; 8:45 am]

BILLING CODE 4910-15-U